DEPARTMENT OF ENERGY

Federal Energy Regulatory Commission

[Project No. P-14227-000]

Nevada Hydro Company, Inc.; Notice of Preliminary Permit Application Accepted for Filing and Soliciting Comments, Motions To Intervene, and Competing Applications

On July 14, 2011, the Nevada Hydro Company (Nevada Hydro) filed an application for a preliminary permit, pursuant to section 4(f) of the Federal Power Act (FPA), proposing to study the feasibility of the Lake Elsinore Advanced Pumped Storage Project to be located on Lake Elsinore and San Juan Creek, in Riverside County, California. The sole purpose of a preliminary permit, if issued, is to grant the permit holder priority to file a license application during the permit term. A preliminary permit does not authorize the permit holder to perform any land-disturbing activities or otherwise enter upon lands or waters owned by others without the owners' express permission.

The proposed project would consist of the following: (1) A new upper reservoir (Decker Canyon) having a 240-foot-high main dam and a gross storage volume of 5,500 feet, at a normal reservoir surface elevation of 2,830 feet above mean sea level (msl); (2) a powerhouse with two reversible pump-turbine units with a total installed capacity of 600 megawatts; (3) the existing Lake Elsinore to be used as a lower reservoir; (4) about 32 miles of 500-kV transmission line connecting the project to an existing transmission line owned by Southern California Edison located north of the proposed project and to an existing San Diego Gas & Electric Company transmission line located to the south.

Applicant Contact: Arnold B. Podgorsky and Patrick L. Morand, Wright & Talisman, P.C., 1200 G Street NW., Suite 600, Washington, DC 20005, Phone (202) 393-1200.

FERC Contact: Jim Fargo; phone: (202) 502-6095.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14227-000) in the docket number field to access the document. For assistance, contact FERC Online Support.

Dated: November 29, 2011.
Kimberly D. Bose,
Secretary.

[FR Doc. 2011-31166 Filed 12-5-11; 8:45 am]

BILLING CODE 6717-01-P